DEPARTMENT OF COMMERCE

National Oceanic and Atmospheric Administration

RIN 0648-XX47

Marine Mammals; File No. 14097

AGENCY: National Marine Fisheries Service (NMFS), National Oceanic and Atmospheric Administration (NOAA), Commerce.

ACTION: Notice; receipt of application for permit amendment.

SUMMARY: Notice is hereby given that National Marine Fisheries Service, Southwest Fisheries Science Center (SWFSC) (Responsible Party: Lisa Ballance, Ph.D.), Protected Resources Division, 8901 La Jolla Shores Drive, La Jolla, CA 92037, has applied for two amendments to Scientific Research Permit No. 14097-03.

DATES: Written, telefaxed, or email comments must be received on or before May 2, 2014.

ADDRESSES: The applications and related documents are available for review by selecting “Records Open for Public Comment” from the Features box on the Applications and Permits for Protected Species home page, https://apps.nmfs.noaa.gov, and then selecting File No. 14097, Modification #24 or #25 from the list of available applications.

These documents are also available upon written request or by appointment in the following offices: See SUPPLEMENTARY INFORMATION.

Written comments on this application should be submitted to the Chief, Permits and Conservation Division, at the address listed below. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Kristy Beard or Amy Hapeman, (301)427-8401.

SUPPLEMENTARY INFORMATION: The subject amendments to Permit No. 14097-03 are requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 14097, issued on July 7, 2010, (75 FR 40776), authorizes the SWFSC to conduct scientific research on 5 pinniped species, 57 cetacean species, and 5 sea turtle species in U.S. territorial and international waters of the Pacific, Southern, Indian, and Arctic Oceans for three projects. Under Project I (Pinnipeds) population assessments are conducted of northern elephant seals (Mirounga angustirostris), California sea lions (Zalophus californianus), Steller sea lions (Eumetopias jubatus), and harbor seals (Phoca vitulina) via aerial photography, ground or vessel surveys, and photogrammetry to determine abundance, distribution patterns, length frequencies, and breeding densities. Scats and spewings are collected from California sea lions to determine their diet. Under Project II (Cetaceans) surveys are conducted to determine the abundance, distribution, movement patterns, and stock structure of cetaceans. These studies are conducted through vessel surveys, aerial surveys, small plane photogrammetry, photo-identification (from vessels and small boats), biological sampling, radio tagging, and satellite tagging. Under Project III (Sea Turtles) surveys are conducted to determine the abundance, distribution, movement patterns, stock structure, and diet of sea turtles. Sea turtles may be opportunistically captured during Project II surveys for biological sampling and to attach satellite tags. Cetacean, pinniped, and sea turtle biological samples may be imported/exported. The permit was amended (to version no. 14097-01) on July 7, 2011, to authorize use of less invasive suction cup tags instead of a portion of the authorized dart/barb tag takes. The permit was amended (to version no. 14097-02) on September 6, 2012, to authorize (1) the attachment of dart/barb tags or implantable tags on Arnoux's beaked whales (Berardius arnuxii) in the Southern Ocean; and (2) an increase in the takes of pinniped species encountered during aerial, ground, and vessel surveys in the Pacific Ocean, to account for ten additional surveys per year. The permit was amended (to version no. 14097-03) on September 13, 2013, to (1) authorize the development of cell lines; and (2) add individuals as authorized recipients of sea turtle samples. Permit No. 14097 has also had numerous modification requests to add personnel, making these requests numbers 24 and 25.

In Modification #24, the SWFSC is requesting the permit be amended to include authorization to (1) use an unmanned aerial system to photograph cetaceans and collect breath samples from gray whales (Eschrichtius robustus); (2) suction cup tag gray whales; (3) attach dart/barb tags to 15 bottlenose (Tursiops truncatus) and 15 Risso's dolphins (Grampus griseus) per year. Except for the requested bottlenose and Risso's dolphins, the number of cetaceans that would be taken annually would not change from what is currently authorized. In Modification #25, the SWFSC is requesting the permit be amended to authorize multiple biopsy samples of humpback whales (Megaptera novaeangliae) in the Southern Ocean to determine if the stable isotope signature is different on different parts of the body. Specifically, they request to biopsy up to 25 humpback whales no more than 5 times each in a 12-month period. No more than three samples would be collected within 24 hours. The number of humpback whales that would be taken annually would not change from what is currently authorized. The expiration date of the permit would also be extended by 12 months, to June 30, 2016.

A draft supplemental environmental assessment (SEA) was prepared in compliance with the National Environmental Policy Act of 1969 (42 U.S.C. 4321 et seq.), to examine whether significant environmental impacts could result from issuance of either proposed amendment to the scientific research permit. Based on the analyses in the draft SEA, NMFS determined that issuance of the permit amendments would not significantly impact the quality of the human environment and that preparation of an environmental impact statement was not required. The draft SEA is available upon request. The EA prepared for the original permit resulted in a Finding of No Significant Impact (FONSI), signed on July 1, 2010. That EA and FONSI are also available upon request.

Concurrent with the publication of this notice in the Federal Register ,NMFS is forwarding copies of this application to the Marine Mammal Commission and its Committee of Scientific Advisors.

Documents may be reviewed in the following locations:

Permits and Conservation Division, Office of Protected Resources, NMFS, 1315 East-West Highway, Room 13705, Silver Spring, MD 20910; phone (301)427-8401; fax (301)713-0376;

Northwest Region, NMFS, 7600 Sand Point Way NE., BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)944-2200; fax (808)973-2941.

Dated: March 28, 2014.
Tammy C. Adams,
Acting Chief, Permits and Conservation Division, Office of Protected Resources, National Marine Fisheries Service.

[FR Doc. 2014-07370 Filed 4-1-14; 8:45 am]

BILLING CODE 3510-22-P